ENVIRONMENTAL PROTECTION AGENCY

[OPP-181085; FRL-6822-9]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period October 1, 2001 to December 31, 2001 to control unforseen pest outbreaks.

FOR FURTHER INFORMATION CONTACT: See each emergency exemption or denial for the name of a contact person. The following information applies to all contact persons: Team Leader, Emergency Response Team, Registration Division (7505C), Office of Pesticide Programs, Environmental Protection Agency, 1200 Pennsylvania Ave., NW., Washington, DC 20460; telephone number: (703) 308-9366.

SUPPLEMENTARY INFORMATION: EPA has granted or denied emergency exemptions to the following State and Federal agencies. The emergency exemptions may take the following form: Crisis, public health, quarantine, or specific. EPA has also listed denied emergency exemption requests in this notice.

I. General Information

A. Does this Action Apply to Me?

You may be potentially affected by this action if you petition EPA for authorization under section 18 of FIFRA to use pesticide products which are otherwise unavailable for a given use. Potentially affected categories and entities may include, but are not limited to:

Categories | NAICS codes | Examples of potentially affected entities
Federal Government | 9241 | Federal agencies that petition EPA for section 18 pesticide use authorization
State and Territorial government agencies charged with pesticide authority | 9241 | State agencies that petition EPA for section 18 pesticide use authorization

This listing is not intended to be exhaustive, but rather provides a guide for readers regarding entities likely to be regulated by this action. Other types of entities not listed in the table in this unit could also be regulated. The North American Industrial Classification System (NAICS) codes have been provided to assist you and others in determining whether or not this action applies to certain entities. To determine whether you or your business is affected by this action, you should carefully examine the applicability provisions in 40 CFR part 166. If you have any questions regarding the applicability of this action to a particular entity, consult the person listed under FOR FURTHER INFORMATION CONTACT.

B. How Can I Get Additional Information or Copies of this Document or Other Documents?

1. Electronically. You may obtain electronic copies of this document, and certain other related documents that might be available electronically, from the EPA Internet Home Page at http://www.epa.gov/. To access this document, on the Home Page select “Laws and Regulations,” “Regulations and Proposed Rules,” and then look up the entry for this document under the “Federal Register—Environmental Documents.” You can also go directly to the Federal Register listings at http://www.epa.gov/fedrgstr/.

2. In person. The Agency has established an official record for this action under docket control number OPP-181085. The official record consists of the documents specifically referenced in this action, and other information related to this action, including any information claimed as Confidential Business Information (CBI). This official record includes the documents that are physically located in the docket, as well as the documents that are referenced in those documents. The public version of the official record does not include any information claimed as CBI. The public version of the official record, which includes printed, paper versions of any electronic comments submitted during an applicable comment period is available for inspection in the Public Information and Records Integrity Branch (PIRIB), Rm. 119, Crystal Mall #2, 1921 Jefferson Davis Hwy., Arlington, VA, from 8:30 a.m. to 4 p.m., Monday through Friday, excluding legal holidays. The PIRIB telephone number is (703) 305-5805.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document, EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U.S. States and Territories

Arizona

Department of Agriculture

Specific: EPA authorized the use of coumaphos in beehives to control varroa mites and small hive beetles; February 2, 2002 to February 1, 2003. Contact: (Barbara Madden)

California

Environmental Protection Agency, Department of Pesticide Regulation

Denial: On November 29, 2001, EPA denied the use of avermectin on leaf lettuce to control leafminers. This request was denied because at this time, the Agency is unable to reach a “reasonable certainty of no harm” finding regarding health effects which may result if this use were to occur. Contact: (Barbara Madden).

Specific: EPA authorized the use of maneb on walnuts to control walnut blight; November 8, 2001 to June 15, 2002. Contact: (Libby Pemberton)

EPA authorized the use of avermectin on spinach to control leaf miners; November 1, 2001 to October 31, 2002. Contact: (Dan Rosenblatt)

EPA authorized the use of carboxin on onion seed to control onion smut; November 13, 2001 to May 31, 2002. Contact: (Andrew Ertman)

EPA authorized the use of imidacloprid on strawberries to control silverleaf whiteflies; December 24, 2001 to December 23, 2002. Contact: (Andrew Ertman)

EPA authorized the use of cyhalofop-buty on rice to control bearded sprangletop; April 15, 2002 to August 15, 2002. Contact: (Barbara Madden)

Colorado

Department of Agriculture

Specific: EPA authorized the use of bifenazate on greenhouse grown tomatoes to control spider mites; December 12, 2001 to December 11, 2002. Contact: (Barbara Madden)

Connecticut

Department of Environmental Protection

Specific: EPA authorized the use of triazamate on Christmas trees to control root aphids; November 8, 2001 to September 30, 2002. Contact: (Andrew Ertman)

Florida

Department of Agriculture and Consumer Services

Specific: EPA authorized the use of coumaphos in beehives to control varroa mites and small hive beetles; January 19, 2002 to January 18, 2003. Contact: (Barbara Madden)

Georgia

Department of Agriculture

Specific: EPA authorized the use of fenbuconazole on blueberries to control mummy berry disease; December 6, 2001 to July 1, 2002. Contact: (Dan Rosenblatt)

EPA authorized the use of coumaphos in beehives to control varroa mites and small hive beetles; January 19, 2002 to January 18, 2003. Contact: (Barbara Madden)

Idaho

Department of Agriculture

Specific: EPA authorized the use of flufenacet on wheat and triticale to control annual ryegrass; October 3, 2001 to June 30, 2002. Contact: (Barbara Madden)

EPA authorized the use of pendimethalin on mint to control kochia and redroot pigweed; January 1, 2002 to December 31, 2002. Contact: (Libby Pemberton)

Louisiana

Department of Agriculture and Forestry

Crisis: On November 7, 2001, for the use of azoxystrobin on strawberries to control crown rot disease. This program ended on November 23, 2001. Contact: (Libby Pemberton)

Michigan

Michigan Department of Agriculture

Specific: EPA authorized the use of tebuconazole on asparagus to control rust; October 2, 2001 to November 1, 2001. Contact: (Barbara Madden)

Minnesota

Department of Agriculture

Specific: EPA authorized the use of coumaphos in beehives to control varroa mites and small hive beetles; February 2, 2002 to February 1, 2003. Contact: (Barbara Madden)

Mississippi

Department of Agriculture and Commerce

Specific: EPA authorized the use of niclosamide in commercially operated, man-made levee containment ponds for catfish production to control ram's horn snail, an intermediate host to the yellow grub trematode (Bolbophorus confusus); November 21, 2001 to November 21, 2002. Contact: (Barbara Madden)

EPA authorized the use of coumaphos in beehives to control varroa mites and small hive beetles; February 2, 2002 to February 1, 2003. Contact: (Barbara Madden)

Missouri

Department of Agriculture

Specific: EPA authorized the use of clethodim on tall fescue to suppress stem and seedhead formation in tall fescue pasture or hay to reduce toxin producing endophyte-fungus; November 8, 2001 to April 15, 2002. Contact: (Barbara Madden)

New Mexico

Department of Agriculture

Specific: EPA authorized the use of coumaphos in beehives to control varroa mites and small hive beetles; February 2, 2002 to February 1, 2003. Contact: (Barbara Madden)

EPA authorized the use of propiconazole in sorghum to control sorghum ergot; June 1, 2002 to September 30, 2002. Contact: (Dan Rosenblatt)

North Dakota

Department of Agriculture

Specific: EPA authorized the use of tebuconazole on wheat to control Fusarium Head Blight; May 15, 2002 to September 1, 2002. Contact: (Meredith Laws)

EPA authorized the use of tebuconazole on barley to control Fusarium Head Blight; May 15, 2002 to September 1, 2002. Contact: (Meredith Laws)

Oklahoma

Department of Agriculture

Specific: EPA authorized the use of coumaphos in beehives to control varroa mites and small hive beetles; February 2, 2002 to February 1, 2003. Contact: (Barbara Madden)

Oregon

Department of Agriculture

Denial: On October 4, 2001, EPA denied the use of propoxycarbazone-sodium on wheat to control jointed goatgrass. This request was denied because it was not demonstrated that wheat growers will suffer significant economic losses without its use. Contact: (Libby Pemberton)

Specific: EPA authorized the use of flufenacet on wheat and triticale to control annual ryegrass; October 3, 2001 to June 30, 2002. Contact: (Barbara Madden)

EPA authorized the use of clopyralid on cranberries to control lotus, Douglas aster, and clover; January 1, 2002 to December 31, 2002. Contact: (Libby Pemberton)

EPA authorized the use of pendimethalin on mint to control kochia and redroot pigweed; January 1, 2002 to December 31, 2002. Contact: (Libby Pemberton)

South Carolina

Clemson University

Crisis: On November 16, 2001, for the use of flufenacet on wheat to control annual ryegrass. This program ended December 31, 2001. Contact: (Barbara Madden)

Specific: EPA authorized the use of flufenacet on wheat to control annual ryegrass; November 29, 2001 to December 31, 2001. Contact: (Barbara Madden)

Texas

Department of Agriculture

Crisis: On March 21, 2001, for the use of bifenthrin on citrus to control weevils. This program is expected to end on November 14, 2002. Contact: (Andrea Conrath)

Specific: EPA authorized the use of bifenthrin on citrus to control weevils; November 14, 2001 to November 14, 2002. Contact: (Andrea Conrath)

EPA authorized the use of azoxystrobin on cabbage to control leaf spot caused by Cercospora brassicicola and Alternaria bassicae; November 29, 2001 to March 18, 2003. Contact: (Libby Pemberton)

EPA authorized the use of propiconazole in sorghum to control sorghum ergot; December 14, 2001 to December 13, 2002. Contact: (Dan Rosenblatt)

EPA authorized the use of imazapic-ammonium on bermudagrass hay meadows and pastures to control grassy weeds; February 1, 2002 to October 31, 2002. Contact: (Libby Pemberton)

EPA authorized the use of coumaphos in beehives to control varroa mites and small hive beetles; February 2, 2002 to February 1, 2003. Contact: (Barbara Madden)

EPA authorized the use of bifenazate on greenhouse grown tomatoes to control spider mites; June 13, 2002 to June 12, 2003. Contact: (Barbara Madden)

Virginia

Department of Agriculture and Consumer Services

Specific: EPA authorized the use of flufenacet on wheat to control annual ryegrass; October 1, 2001 to December 31, 2001. Contact: (Barbara Madden)

Washington

Department of Agriculture

Specific: EPA authorized the use of flufenacet on wheat and triticale to control annual ryegrass; October 3, 2001 to June 30, 2002. Contact: (Barbara Madden)

EPA authorized the use of clopyralid on cranberries to control lotus, Douglas aster, and clover; January 1, 2002 to December 31, 2002. Contact: (Libby Pemberton)

EPA authorized the use of pendimethalin on mint to control kochia and redroot pigweed; January 1, 2002 to December 31, 2002. Contact: (Libby Pemberton)

B. Federal Departments and Agencies

Environmental Protection Agency

Office of Solid Waste and Emergency Response

Crisis: On November 9, 2001, for the use of chlorine dioxide liquid on structures or other property identified as contaminated or potentially contaminated by Bacillus anthracis to control anthrax. This program is expected to end on November 9, 2002. Contact: (Barbara Madden)

On November 16, 2001, for the use of hydrogen peroxide and dimethylbenzyl ammonium chlorides on structures or other property identified as contaminated or potentially contaminated by Bacillus anthracis to control anthrax. This program is expected to end on November 16, 2002. Contact: (Barbara Madden)

On November 30, 2001, for the use of chlorine dioxide gas in the Hart Senate Office Building to control anthrax (Bacillus anthracis). This program ended on February 1, 2002. Contact: (Barbara Madden)

On December 7, 2001, for the use of ethylene oxide to fumigate items retrieved from Congressional Offices that were contaminated or potentially contaminated by Bacillus anthracis. This program is expected to end by December 6, 2002. Contact: (Barbara Madden)

On December 17, 2001, for the use of ethylene oxide to fumigate mail received by the Department of Justice that may have been contaminated or potentially contaminated by Bacillus anthracis. This program ended on January 1, 2002. Contact: (Barbara Madden)

List of Subjects

Environmental protection, Pesticides and pest.

Dated: January 30, 2002.
Peter Caulkins,
Acting Director, Registration Division, Office of Pesticide Programs.

[FR Doc. 02-3099 Filed 2-12-02; 8:45 am]

BILLING CODE 6560-50-S